ENVIRONMENTAL PROTECTION AGENCY

[ER-FRL-9005-2]

Environmental Impacts Statements; Notice of Availability

Responsible Agency: Office of Federal Activities, General Information (202) 564-7146 or http://www.epa.gov/compliance/nepa/.

Weekly receipt of Environmental Impact Statements

Filed 09/10/2012 Through 09/14/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: Starting October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp

EIS No. 20120302, Final EIS, HUD, CA, Alice Griffith Redevelopment Project, Redevelopment of the #4-Arce “Project Site” for 1,200 New Dwelling Units, Retail Development, Open Space and Associated Infrastructure, City and County of San Francisco, CA, Review Period Ends: 10/22/2012, Contact: Eugene Flannery 415-701-5598.

EIS No. 20120303, Draft EIS, DOE, TX, W.A. Parish Post-Combustion CO2 Capture and Sequestration Project, Funding, Fort Bend, Wharton, and Jackson Counties, TX, Comment Period Ends: 11/05/2012, Contact: Mark J. Matarrese 202-586-0491.

EIS No. 20120304, Final EIS, USFS, 00, Mountain Pine Beetle Response Project, Implementing Multiple Resource Management Activities, Black Hills National Forest, Custer, Fall River, Lawrence, Meade, and Pennington Counties, SD and Crook and Weston Counties, WY, Review Period Ends: 10/22/2012, Contact: Katie Van Alstyne 605-343-1567.

Amended Notices

EIS No. 20110108, Draft EIS, USFS, OR, WITHDRAWAL- Kapka Butte Sno-Park Project, Proposal to Build a New Sno-Park to Provide more High-Elevation Parking for Winter Recreationist, Bend-Ft. Rock Ranger District, Deschutes National Forest, Deschutes County, OR, Comment Period Ends: 06/30/2011, Contact: Beth Peer 541-383-4769. Revision to FR Notice Published 06/03/2011; Officially Withdrawn by the Preparing Agency

Dated: September 19, 2012.
Cliff Rader,
Director, NEPA Compliance Division, Office of Federal Activities.

[FR Doc. 2012-23354 Filed 9-20-12; 8:45 am]

BILLING CODE 6560-50-P